DEPARTMENT OF COMMERCE

Foreign-Trade Zones Board

[Docket 25-2012]

Proposed Foreign-Trade Zone, Caledonia, Essex and Orleans Counties, VT, Under Alternative Site Framework

An application has been submitted to the Foreign-Trade Zones (FTZ) Board (the Board) by the Northeastern Vermont Development Association (NVDA) to establish a general-purpose foreign-trade zone at sites in Caledonia, Essex and Orleans Counties, Vermont, within/adjacent to the Derby Line Customs and Border Protection (CBP) port of entry, under the alternative site framework (ASF) adopted by the Board (74 FR 1170-1173, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on March 23, 2012. The applicant is authorized to make the proposal under Vermont State Law, Title 9, Chapter 111, Section 4122. The proposed zone would be the first general-purpose zone for the Derby Line CBP port of entry.

The applicant's proposed service area under the ASF would be Caledonia, Essex and Orleans Counties, Vermont. If approved, the applicant would be able to serve sites throughout the service area based on companies' needs for FTZ designation. The proposed service area is within/adjacent to the Derby Line CBP port of entry.

The proposed zone would include three “magnet” sites as follows: Proposed Site 1 (21 acres)—NVDA Orleans Industrial Park, Industrial Park Lane, Orleans (Orleans County); Proposed Site 2 (91 acres)—NVDA St. Johnsbury-Lyndon Industrial Park, 1713 Industrial Parkway, Lyndonville (Caledonia County); and, Proposed Site 3 (183 acres)—within the 548-acre Newport State Airport, Coventry (Orleans County). The initial “usage-driven” site is as follows: Proposed Site 4 (26 acres)—AnC-BIO Vermont, Inc. facility, 172 Bogner Drive, Newport (Orleans County). Sites 1 and 2 are owned by NVDA. Site 3 is owned by the State of Vermont. Site 4 is owned by GSI of Dade County, Inc. The ASF allows for the possible exemption of one magnet site from the “sunset” time limits that generally apply to sites under the ASF, and the applicant proposes that Site 2 be so exempted.

The application indicates a need for zone services in Caledonia, Essex and Orleans Counties, Vermont. Several firms have indicated an interest in using zone procedures for warehousing/distribution activities for a variety of products. Specific manufacturing approvals are not being sought at this time. Such requests would be made to the Board on a case-by-case basis.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is May 29, 2012. Rebuttal comments in response to material submitted during the foregoing period may be submitted during the subsequent 15-day period to June 12, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Kathleen Boyce at Kathleen.Boyce@trade.gov or (202) 482-1346.

Dated: March 23, 2012.
Andrew McGilvray,
Executive Secretary.

[FR Doc. 2012-7585 Filed 3-28-12; 8:45 am]

BILLING CODE P